SECURITIES AND EXCHANGE COMMISSION

In the Matter of Royale Globe Holding Inc., File No. 500-1; Order of Suspension of Trading

April 8, 2016.

It appears to the Securities and Exchange Commission that there is a lack of current and accurate information concerning the securities of Royale Globe Holding Inc. because of questions regarding the accuracy of publicly available information about the company's operations and securities ownership, including details about its affiliation with Maxim Capital Limited, a purported investment company operating under the name Maxim Trader. Royale Globe Holding Inc. is delinquent in its periodic filings with the Commission, having not filed any periodic reports since it filed its Form 10-Q for the period ended July 31, 2015. Royale Globe Holding Inc. (CIK No. 0001383145), is a Nevada corporation with its principal place of business listed as Kuala Lumpur, Malaysia with stock quoted on OTC Link (previously, “Pink Sheets”) operated by OTC Markets Group, Inc. under the ticker symbol ROGP.

The Commission is of the opinion that the public interest and the protection of investors require a suspension of trading in the securities of the above-listed company.

Therefore, it is ordered, pursuant to Section 12(k) of the Securities Exchange Act of 1934, that trading in the securities of the above-listed company is suspended for the period from 9:30 a.m. EDT, April 8, 2016, through 11:59 p.m. EDT, on April 21, 2016.

By the Commission.
Jill M. Peterson,
Assistant Secretary.

[FR Doc. 2016-08484 Filed 4-8-16; 4:15 pm]

BILLING CODE 8011-01-P